DEPARTMENT OF DEFENSE

Office of the Secretary

Board of Visitors Meeting

AGENCY: Defense Acquisition University, DoD.

ACTION: Notice.

SUMMARY: The next meeting of the Defense Acquisition University (DAU) Board of visitors (BoV) will be held in the Packard Conference Center. The purpose of this meeting is to report back to the BoV on continuing items of interest.

DATES: Thursday, June 20, 2002 from 09001500.

ADDRESSES: Packard Conference Center, Building 184, Fort Belvoir, Virginia.

FOR FURTHER INFORMATION CONTACT: Ms. Diane Reid, 703-805-5133.

SUPPLEMENTARY INFORMATION: The meeting is open to the public; however, because of space limitations, allocation of seating will be made on a first-come, first served basis. Persons desiring to attend the meeting should call Ms. Diane Reid at 703-805-5133.

Dated: May 14, 2002.
Patricia L. Toppings,
Alternate OSD Federal Liaison Officer, Department of Defense.

[FR Doc. 02-12506 Filed 5-7-02; 8:45 am]

BILLING CODE 5001-08-M